DEPARTMENT OF TRANSPORTATION

Federal Aviation Administration

14 CFR Part 39

[Docket No. FAA-2017-1170; Product Identifier 2013-NM-054-AD; Amendment 39-19129; AD 2017-25-15]

RIN 2120-AA64

Airworthiness Directives; ATR-GIE Avions de Transport Régional Airplanes

AGENCY: Federal Aviation Administration (FAA), DOT.

ACTION: Final rule; request for comments.

SUMMARY: We are adopting a new airworthiness directive (AD) for certain ATR-GIE Avions de Transport Régional Model ATR42-300 and -500 airplanes and Model ATR72-202 and -212A airplanes. This AD requires identifying the serial number of the dual distributor valve (DDV), and replacement of affected DDVs. This AD was prompted by an investigation performed on a failed DDV that revealed a nonconformity of crimping on an internal valve. We are issuing this AD to address the unsafe condition on these products.

DATES: This AD becomes effective January 2, 2018.

The Director of the Federal Register approved the incorporation by reference of certain publications listed in this AD as of January 2, 2018.

We must receive comments on this AD by February 1, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this final rule, contact ATR-GIE Avions de Transport Régional, 1, Allée Pierre Nadot, 31712 Blagnac Cedex, France; telephone +33 (0) 5 62 21 62 21; fax +33 (0) 5 62 21 67 18; email continued.airworthiness@atr-aircraft.com. You may view this referenced service information at the FAA, Transport Standards Branch, 1601 Lind Avenue SW, Renton, WA. For information on the availability of this material at the FAA, call 425-227-1221. It is also available on the internet at http://www.regulations.gov by searching for and locating Docket No. FAA-2017-1170.

Examining the AD Docket

You may examine the AD docket on the internet at http://www.regulations.gov by searching for and locating Docket No. FAA-2017-1170; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Shahram Daneshmandi, Aerospace Engineer, International Section, Transport Standards Branch, FAA, 1601 Lind Avenue SW, Renton, WA 98057-3356; telephone 425-227-1112; fax 425-227-1149.

SUPPLEMENTARY INFORMATION:

Discussion

The European Aviation Safety Agency (EASA), which is the Technical Agent for the Member States of the European Union, has issued EASA Airworthiness Directive, 2013-0032, dated February 18, 2013 (referred to after this as the Mandatory Continuing Airworthiness Information, or “the MCAI”), to correct an unsafe condition for certain ATR-GIE Avions de Transport Régional Model ATR42-300 and -500 airplanes and Model ATR72-202 and -212A airplanes. The MCAI states:

During the investigation performed on a failed dual distributor valve (DDV) shipped to the DDV manufacturer, a non-conformity of crimping on an internal valve has been detected by the DDV manufacturer. This defective crimping creates a lack of tightness that prevents the complete deflation of the related de-icing boot chamber during de-icing cycles.

A batch of serialized DDV, potentially affected with the same manufacturing discrepancy, has been identified by the DDV manufacturer.

This condition, if not detected and corrected, may affect the efficiency of the pneumatic de-icing system, which could reduce flight safety in icing conditions.

For the reasons described above, this AD requires a one-time inspection of each DDV to identify the serial number (s/n) and replacement of the non-conforming DDV units.

The affected DDV units installed on aeroplanes and those delivered as spares have been retraced by ATR and all non-installed spare units have been quarantined, which is why this AD only applies to specific MSN [manufacturer serial number] aeroplanes.

You may examine the MCAI on the internet at http://www.regulations.gov by searching for and locating Docket No. FAA-2017-1170.

Related Service Information Under 1 CFR Part 51

Avions de Transport Régional has issued the following service information:

• ATR Service Bulletin ATR42-30-0080, Revision 02, dated March 26, 2013.

• ATR Service Bulletin ATR42-30-0081, Revision 02, dated March 26, 2013.

• ATR Service Bulletin ATR72-30-1049, Revision 03, dated March 26, 2013.

• ATR Service Bulletin ATR72-30-1050, Revision 03, dated March 26, 2013.

This service information describes procedures for identifying and replacing affected DDVs. These documents are distinct since they apply to different airplane models. This service information is reasonably available because the interested parties have access to it through their normal course of business or by the means identified in the ADDRESSES section of this AD.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

There are currently no domestic operators of this product. Therefore, we find good cause that notice and opportunity for prior public comment are unnecessary. In addition, for the reason(s) stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2017-1170; Product Identifier 2013-NM-054-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

Currently, there are no affected airplanes on the U.S. Register. If an affected airplane is imported and placed on the U.S. Register in the future, we provide the following cost estimates to comply with this AD. We estimate that it will take about 84 work-hours per product to comply with the basic requirements of this AD. The average labor rate is $85 per work-hour. Required parts will cost about $12,000 per product. Based on these figures, we estimate the cost of this AD to be $19,140 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-25-15 ATR—GIE Avions de Transport Régional: Amendment 39-19129; Docket No. FAA-2017-1170; Product Identifier 2013-NM-054-AD.

(a) Effective Date

This AD becomes effective January 2, 2018.

(b) Affected ADs

None.

(c) Applicability

This AD applies to ATR—GIE Avions de Transport Régional airplanes, certificated in any category, identified in paragraphs (c)(1) through (c)(6) of this AD.

Note 1 to the introductory text of paragraph (c) of this AD: In EASA AD 2013-0032, dated February 18, 2013, airplanes specified in paragraphs (c)(1) and (c)(2) of this AD are identified as Group 1 airplanes and airplanes specified in paragraphs (c)(3) through (c)(6) of this AD are identified as Group 2 airplanes.

(1) Model ATR42-500 airplanes: Manufacturer serial numbers (MSNs) 645, 653, 657, 659, 661, 663, and 665.

(2) Model ATR72-212A airplanes: MSNs 778, 994, 995, 996, 998, 999, 1000, and 1020.

(3) Model ATR42-300 airplanes: MSNs 348 and 415.

(4) Model ATR42-500 airplanes: MSNs 497, 501, and 514.

(5) Model ATR72-202 airplanes: MSNs 192, 411, 496, 508, and 509.

(6) Model ATR72-212A airplanes: MSNs 468, 568, 595, 662, 796, 920, 926, 950, 1024, 1025, 1028, 1029, 1031, 1032, 1033, 1034, 1035, 1036, 1037, 1039, and 1040.

(d) Subject

Air Transport Association (ATA) of America Code 30, Ice and Rain Protection.

(e) Reason

This AD was prompted by an investigation performed on a failed dual distributor valve (DDV) that revealed a nonconformity of crimping on an internal valve. We are issuing this AD to prevent the deflation of the related deicing boot chamber during deicing cycles, which could result in reduced controllability of the airplane in icing conditions.

(f) Compliance

Comply with this AD within the compliance times specified, unless already done.

(g) Part Identification

Within 6 months after the effective date of this AD, identify the serial number of the DDV as specified in paragraph (g)(1) or (g)(2) of this AD, as applicable. A review of airplane delivery or maintenance records is acceptable to make the identification as required by this paragraph, provided those records can be relied upon for that purpose, and the serial number of the DDV can be conclusively identified from that review.

(1) For airplanes identified in paragraphs (c)(1) and (c)(2) of this AD, identify the serial number of the engine DDV part number(P/N) B03AA1060, in accordance with the Accomplishment Instructions of ATR Service Bulletin ATR42-30-0081, Revision 02, dated March 26, 2013; or ATR72-30-1050, Revision 03, dated March 26, 2013; as applicable to airplane model.

(2) For airplanes identified in paragraphs (c)(3), (c)(4), (c)(5), and (c)(6) of this AD, identify the serial number of the wing and/or stabilizer DDV, P/N B03AA1031 or B03AA1040, in accordance with the Accomplishment Instructions of ATR Service Bulletin ATR42-30-0080, Revision 02, dated March 26, 2013; or ATR72-30-1049, Revision 03, dated March 26, 2013; as applicable to airplane model.

(h) Definition of Serviceable DDV

For purposes of this AD, a serviceable DDV is any DDV having a serial number listed in figure 1 to paragraphs (h) and (i) of this AD with a suffix “R” added to the serial number.

(i) Corrective Action

If, during the part identification required by paragraph (g) of this AD, any DDV identified in figure 1 to paragraphs (h) and (i) of this AD is found: At the applicable time specified in figure 2 to the introductory text of paragraph (i) of this AD, depending on the location and the number of DDV affected, and on whether the airplane is operated in icing conditions or under Extended Operations (ETOPS) rules, replace any affected DDV(s) with a new or serviceable DDV, in accordance with the Accomplishment Instructions of the applicable service information specified in paragraphs (i)(1) through (i)(4) of this AD.

(1) For airplanes identified in paragraphs (c)(3) and (c)(4) of this AD: ATR Service Bulletin ATR42-30-0080, Revision 02, dated March 26, 2013.

(2) For airplanes identified in paragraph (c)(1) of this AD: ATR Service Bulletin ATR42-30-0081, Revision 02, dated March 26, 2013.

(3) For airplanes identified in paragraphs (c)(5) and (c)(6) of this AD: ATR Service Bulletin ATR72-30-1049, Revision 03, dated March 26, 2013.

(4) For airplanes identified in paragraph (c)(2) of this AD: ATR Service Bulletin ATR72-30-1050, Revision 03, dated March 26, 2013.

(j) Credit for Previous Actions

This paragraph provides credit for actions required by paragraph (g) of this AD, if those actions were performed before the effective date of this AD using the service information identified in paragraphs (j)(1) through (j)(10) of this AD, as applicable. This service information is not incorporated by reference in this AD.

(1) ATR Service Bulletin ATR42-30-0080, dated October 18, 2012 (for Model ATR42-300 and -500 airplanes).

(2) ATR Service Bulletin ATR42-30-0080, Revision 01, dated February 5, 2013 (for Model ATR42-300 and -500 airplanes).

(3) ATR Service Bulletin ATR42-30-0081, dated October 18, 2012 (for Model ATR42-500 airplanes).

(4) ATR Service Bulletin ATR42-30-0081, Revision 01, dated February 5, 2013 (for Model ATR42-500 airplanes).

(5) ATR Service Bulletin ATR72-30-1049, dated October 4, 2012 (for Model ATR72-202 and -212A airplanes).

(6) ATR Service Bulletin ATR72-30-1049, Revision 01, dated October 10, 2012 (for Model ATR72-202 and -212A airplanes).

(7) ATR Service Bulletin ATR72-30-1049, Revision 02, dated February 5, 2013 (for Model ATR72-202 and -212A airplanes).

(8) ATR Service Bulletin ATR72-30-1050, dated October 4, 2012 (for Model ATR72-212A airplanes).

(9) ATR Service Bulletin ATR72-30-1050, Revision 01, dated November 6, 2012 (for Model ATR72-212A airplanes).

(10) ATR Service Bulletin ATR72-30-1050, Revision 02, dated February 5, 2013 (for Model ATR72-212A airplanes).

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or ATR—GIE Avions de Transport Régional's EASA Design Organization Approval (DOA). If approved by the DOA, the approval must include the DOA-authorized signature.

(l) Related Information

(1) Refer to Mandatory Continuing Airworthiness Information (MCAI) EASA AD 2013-0032, dated February 18, 2013, for related information. You may examine the MCAI on the internet at http://www.regulations.gov by searching for and locating Docket No. FAA-2017-1170.

(2) For more information about this AD, contact Shahram Daneshmandi, Aerospace Engineer, International Section, Transport Standards Branch, FAA, 1601 Lind Avenue SW, Renton, WA 98057-3356; telephone 425-227-1112; fax 425-227-1149.

(3) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) ATR Service Bulletin ATR42-30-0080, Revision 02, dated March 26, 2013.

(ii) ATR Service Bulletin ATR42-30-0081, Revision 02, dated March 26, 2013.

(iii) ATR Service Bulletin ATR72-30-1049, Revision 03, dated March 26, 2013.

(iv) ATR Service Bulletin ATR72-30-1050, Revision 03, dated March 26, 2013.

(3) For service information identified in this AD, contact ATR—GIE Avions de Transport Régional, 1, Allée Pierre Nadot, 31712 Blagnac Cedex, France; telephone +33 (0) 5 62 21 62 21; fax +33 (0) 5 62 21 67 18; email continued.airworthiness@atr-aircraft.com.

(4) You may view this service information at the FAA, Transport Standards Branch, 1601 Lind Avenue SW, Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 6, 2017.
Dionne Palermo,
Acting Director, System Oversight Division, Aircraft Certification Service.

[FR Doc. 2017-26949 Filed 12-15-17; 8:45 am]

BILLING CODE 4910-13-P